DEPARTMENT OF ENERGY

Federal Energy Regulatory Commission

[Docket No. RP96-389-076]

Columbia Gulf Transmission Company; Notice of Compliance Filing

February 26, 2003.

Take notice that on February 24, 2003, Columbia Gulf Transmission Company (Columbia Gulf) tendered for filing as part of its FERC Gas Tariff, Second Revised Volume No. 1, Eighth Revised Sheet No. 316, with an effective date of December 15, 2002.

Columbia Gulf states that it is submitting FTS Service Agreement No. 71557, which is an agreement for firm transportation service to be provided by Columbia Gulf to Stone Energy and the November 2, 2001 Amendment to FTS-2 Service Agreement No. 71557 (together the Stone Agreement). Service under the Stone Agreement commenced on December 15, 2001 and will continue for a three-year term.

Columbia Gulf states that the Stone Agreement is inconsistent with its tariff and its pro forma Rate Schedule FTS service agreement and therefore constitutes a non-conforming service agreement within the meaning of section 154.1(d) of the Commission Regulations.

Columbia Gulf states that copies of its filing have been mailed to all firm customers, interruptible customers, and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 10, 2003.

Magalie R. Salas,
Secretary.

[FR Doc. 03-5107 Filed 3-3-03; 8:45 am]

BILLING CODE 6717-01-P